DEPARTMENT OF AGRICULTURE

Grain Inspection, Packers and Stockyards Administration

Designation for the State of Alabama; Saginaw, TX; Essex, IL; Springfield, IL; Savage, MN; and State of Washington Areas

AGENCY: Grain Inspection, Packers and Stockyards Administration, USDA.

ACTION: Notice.

SUMMARY: GIPSA is announcing the designation of the Alabama Department of Agriculture and Industries (Alabama); Gulf Country Grain Inspection Service, Inc. (Gulf Country); Kankakee Grain Inspection, Inc. (Kankakee); Springfield Grain Inspection, Inc. (Springfield); State Grain Inspection, Inc. (State Grain); and Washington Department of Agriculture (Washington) to provide official services under the United States Grain Standards Act (USGSA), as amended.

DATES: Effective Date: January 1, 2012.

ADDRESSES: Eric J. Jabs, Chief, USDA, GIPSA, FGIS, QACD, QADB, 10383 North Ambassador Drive Kansas City, MO 64153.

FOR FURTHER INFORMATION CONTACT: Eric J. Jabs, 816-659-8408 or Eric.J.Jabs@usda.gov.

Read Applications: All applications and comments will be available for public inspection at the office above during regular business hours (7 CFR 1.27(c)).

SUPPLEMENTARY INFORMATION: In the June 1, 2011 Federal Register (76 FR 31580), GIPSA requested applications for designation to provide official services in the geographic areas presently serviced by Alabama, Gulf Country, Kankakee, Springfield, State Grain, and Washington. Applications were due by July 1, 2011.

Alabama, Gulf Country, Kankakee, Springfield, State Grain, and Washington were the sole applicants for designation to provide official services in these areas. As a result, GIPSA did not ask for additional comments.

GIPSA evaluated all available information regarding the designation criteria in section 79(f) of the USGSA (7 U.S.C. 79(f)) and determined that the applicants Alabama, Gulf Country, Kankakee, Springfield, State Grain, and Washington are qualified to provide official services in the geographic area specified in the Federal Register on June 1, 2011. This designation action to provide official services in these specified areas is effective January 1, 2012 and terminates on December 31, 2014.

Interested persons may obtain official services by contacting this agency at the following telephone numbers:

Official agency | Headquarters location and telephone | Designation start | Designation end
Alabama | Montgomery, AL, (251) 438-2549 | 1/1/2012 | 12/31/2014
Gulf Country | Saginaw, TX, (817) 306-5900 | 1/1/2012 | 12/31/2014
Kankakee | Essex, IL, (815) 365-2268 | 1/1/2012 | 12/31/2014
| Additional Location: Tiskilwa, IL
Springfield | Springfield, IL, (217) 522-5233 | 1/1/2012 | 12/31/2014
State Grain | Savage, MN, (952) 808-8566 | 1/1/2012 | 12/31/2014
Washington | Olympia, WA, (360) 753-1484 | 1/1/2012 | 12/31/2014
| Additional Locations: Colfax, Othello, Pasco, Quincy, Spokane, and Yakima, WA

Section 79(f) of the USGSA authorizes the Secretary to designate a qualified applicant to provide official services in a specified area after determining that the applicant is better able than any other applicant to provide such official services (7 U.S.C. 79 (f)).

Under section 79(g) of the USGSA, designations of official agencies are effective for no longer than three years unless terminated by the Secretary; however, designations may be renewed according to the criteria and procedures prescribed in section 79(f) of the USGSA.

Authority: 7 U.S.C. 71-87k.

Alan R. Christian,
Acting Administrator, Grain Inspection, Packers and Stockyards Administration.

[FR Doc. 2012-3006 Filed 2-8-12; 8:45 am]

BILLING CODE 3410-KD-P